MORRIS K. UDALL AND STEWART L. UDALL FOUNDATION

Sunshine Act Meetings

TIME AND DATE: 10:00 a.m. to 11:30 a.m. (MST-AZ), Wednesday, October 30, 2024.

PLACE: Virtual Board of Trustees Meeting via Microsoft Teams.

STATUS: This virtual meeting of the Board of Trustees will be open to the public. Members of the public who would like to attend this meeting may request remote access by contacting Sara Moeller at moeller@udall.gov prior to October 30, 2024, to obtain the teleconference connection information.

MATTERS TO BE CONSIDERED: (1) Call to Order and Chair's Remarks; (2) Executive Director's Remarks; (3) Welcome New Trustees; (4) Consent Agenda Approval (Minutes of the July 23, 2024, Special Board of Trustees Meeting; Minutes of the August 19, 2024, Special Board of Trustees Meeting; Board Reports submitted for Data and Information Technology, Education Programs, Finance and Internal Controls, John S. McCain III National Center for Environmental Conflict Resolution, and Udall Center for Studies in Public Policy, including the Native Nations Institute for Leadership, Management, and Policy and The University of Arizona Libraries, Special Collections; and Board takes notice of any new and updated personnel policies and internal control methodologies); (5) Agency Strategic Plan Update (2026-2030); (6) The University of Arizona Fiscal Year 2025 Program Work Plan and Funding (including resolutions regarding Allocation of Funds to the Udall Center for Studies in Public Policy and The University of Arizona Libraries, Special Collections and Funds Set Aside for the Native Nations Institute for Leadership, Management, and Policy, a program of the Udall Center for Studies in Public Policy); and (7) Thank You and Farewell to Former Trustee Eric Eberhard (including a resolution regarding Amendment of Operating Procedures of the Board of Trustees of the Morris K. Udall and Stewart L. Udall Foundation).

CONTACT PERSON FOR MORE INFORMATION: Sara Moeller, Chief Operating Officer, 434 E University Blvd., Suite 300, Tucson, AZ 85705, (520) 901-8568.

Dated: October 10, 2024.
David P. Brown,
Executive Director, Morris K. Udall and Stewart L. Udall Foundation.

[FR Doc. 2024-23862 Filed 10-10-24; 4:15 pm]

BILLING CODE 6820-FN-P